ENVIRONMENTAL PROTECTION AGENCY

40 CFR Parts 52 and 81

[EPA-R04-OAR-2014-0267; FRL-9920-60-Region 4]

Approval of Implementation Plans and Designation of Areas; Georgia; Redesignation of the Georgia Portion of the Chattanooga, 1997 PM2.5 Nonattainment Area to Attainment

AGENCY: Environmental Protection Agency (EPA).

ACTION: Final rule.

SUMMARY: On September 14, 2012, the Georgia Department of Natural Resources, through the Georgia Environmental Protection Division (GA EPD), submitted a request to redesignate the Georgia portion of Chattanooga, TN-GA-AL fine particulate matter (PM2.5) nonattainment area (hereafter referred to as the “Chattanooga TN-GA-AL Area” or “Area”) to attainment for the 1997 annual PM2.5 national ambient air quality standards (NAAQS) and to approve a state implementation plan (SIP) revision containing a maintenance plan for the Chattanooga TN-GA-AL Area. The Georgia portion of Chattanooga TN-GA-AL Area is comprised of two Counties: Catoosa and Walker Counties in Georgia. EPA is approving the redesignation request and the related SIP revision for the Georgia portion of Chattanooga TN-GA-AL Area, including GA EPD's plan for maintaining attainment of the 1997 Annual PM2.5 standard in the Chattanooga TN-GA-AL Area. EPA is also approving, into the Georgia SIP, the motor vehicle emission budgets (MVEBs) for nitrogen oxides (NOx) and PM2.5 for the year 2025 for the Georgia portion of Chattanooga TN-GA-AL Area. On April 23, 2013, and November 13, 2014, Alabama and Tennessee (respectively) submitted requests to redesignate the Alabama and Tennessee portions of the Chattanooga TN-GA-AL Area. EPA will be taking separate action on the requests from Alabama and Tennessee.

DATES: This rule will be effective December 19, 2014.

ADDRESSES: EPA has established a docket for this action under Docket Identification No. EPA-R04-OAR-2014-0267. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Joydeb Majumder, Regulatory Development Section, Air Planning Branch, Air, Pesticides and Toxics Management Division, U.S. Environmental Protection Agency, Region 4, 61 Forsyth Street SW., Atlanta, Georgia 30303-8960. Joydeb Majumder may be reached by phone at (404) 562-9121 or via electronic mail at majumder.joydeb@epa.gov.

SUPPLEMENTARY INFORMATION:

I. What is the background for the actions?

On September 14, 2012, the Georgia Department of Natural Resources, through GA EPD, submitted a request to EPA for redesignation of the Georgia portion of Chattanooga TN-GA-AL Area to attainment for the 1997 Annual PM2.5 NAAQS, and for approval of a Georgia SIP revision containing a maintenance plan for the Area.¹ On November 12, 2014, EPA proposed to redesignate the Georgia portion of Chattanooga TN-GA-AL Area to attainment for the 1997 Annual PM2.5 NAAQS, and to approve, as a revision to the Georgia SIP, the State's 1997 Annual PM2.5 NAAQS maintenance plan, including the MVEBs for direct PM2.5 and NOx, for the Georgia portion of Chattanooga TN-GA-AL Area.² See 79 FR 67120. EPA also proposed to determine that the Chattanooga TN-GA-AL Area is continuing to attain the 1997 Annual PM2.5 NAAQS and that attainment can be maintained through 2025. EPA received no adverse comments on the November 12, 2014, proposed rulemaking. EPA notes that it inadvertently referred to the Area as the “Chattanooga, TN-GA Area” in the November 12, 2014, proposed rulemaking. In today's final rulemaking, EPA is clarifying this Area should have been referred to as the “Chattanooga, TN-GA-AL Area” to account for a correction for the name of this Area that was published in the Federal Register on May 5, 2014, at 79 FR 25508.

¹ EPA designated the Chattanooga TN-GA-AL Area as nonattainment for the annual 1997 PM2.5 NAAQS on January 5, 2005 (70 FR 944) as supplemented on April 14, 2005 (70 FR 19844).

² On February 8, 2012, EPA approved, under section 172(c)(3) of the Clean Air Act (CAA or Act), Georgia's 2002 base-year emissions inventory for the Chattanooga TN-GA-AL Area as part of the SIP revision submitted by GA EPD to provide for attainment of the 1997 PM2.5 NAAQS in the Area. See 77 FR 6467.

In its November 12, 2014, proposed action, EPA stated that the adequacy public comment period on the 2025 NOX and PM2.5 MVEBs for the Georgia portion of the Area (as contained in Georgia's September 14, 2012, submittal) began on March 4, 2013, and closed on April 3, 2013. No comments were received during this public comment period, and therefore, EPA deems the 2025 NOX and PM2.5 MVEBs adequate for the Georgia portion of the Area for the purposes of transportation conformity.

As stated in EPA's November 12, 2014, proposal notice, the 3-year design value of 12.9 micrograms per cubic meter (μg/m³) for the Area for 2007-2009 meets the PM2.5 Annual NAAQS of 15.0 μg/m³. EPA has reviewed the most recent ambient monitoring data, which confirms that the Area continues to attain the 1997 Annual PM2.5 NAAQS beyond the 3-year attainment period of 2007-2009.

II. What are the actions EPA is taking?

In today's rulemaking, EPA is also approving Georgia's redesignation request to change the legal designation of Catoosa and Walker Counties in Georgia from nonattainment to attainment for the 1997 Annual PM2.5 NAAQS, and as a revision to the Georgia SIP, the State's 1997 Annual PM2.5 NAAQS maintenance plan and the MVEBs for direct PM2.5 and NOX for the Georgia portion of the Area included in that maintenance plan. The maintenance plan is designed to demonstrate that the Chattanooga TN-GA-AL Area will continue to attain the 1997 Annual PM2.5 NAAQS through 2025. EPA's approval of the redesignation request is based on EPA's determination that the Georgia portion of Chattanooga TN-GA-AL Area meets the criteria for redesignation set forth in the CAA, including EPA's determination that the Chattanooga TN-GA-AL Area has attained and continues to attain the 1997 Annual PM2.5 NAAQS and that attainment can be maintained through 2025. EPA's analyses of Georgia's redesignation request and maintenance plan are described in detail in the November 12, 2014, proposed rule. See 79 67120. Through this final action, EPA is finding the 2025 NOX and PM2.5 MVEBs adequate for the Georgia portion of the Area for transportation conformity purposes.

EPA is now taking final action as described above. Additional background for today's action is set forth in EPA's November 12, 2014, proposal and is summarized below.

EPA has reviewed the most recent ambient monitoring data for the Area, which indicate that the Chattanooga TN-GA-AL Area continues to attain the 1997 Annual PM2.5 NAAQS beyond the submitted 3-year attainment period of 2007-2009. As stated in EPA's November 12, 2014, proposal notice, the 3-year design value of 12.9 μg/m³ for the Area for 2007-2009 meets the NAAQS of 15.0 μg/m³. Quality assured and certified data in EPA's Air Quality System (AQS) for 2013 provide a 3-year design value of 10.5 μg/m³ for the Area for 2011-2013. Furthermore, preliminary monitoring data for 2014 indicate that the Area is continuing to attain the 1997 Annual PM2.5 NAAQS. The 2014 preliminary data are available in AQS although the data are not yet quality assured and certified.

III. Why is EPA taking these actions?

EPA has determined that the Chattanooga TN-GA-AL Area has attained the 1997 Annual PM2.5 NAAQS and has also determined that all other criteria for the redesignation of the Georgia portion of Chattanooga TN-GA-AL Area from nonattainment to attainment of the 1997 Annual PM2.5 NAAQS have been met. See CAA section 107(d)(3)(E). One of those requirements is that the Georgia portion of Chattanooga TN-GA-AL Area has an approved plan demonstrating maintenance of the 1997 Annual PM2.5 NAAQS over the ten-year period following redesignation. EPA has determined that attainment can be maintained through 2025 and is taking final action to approve the maintenance plan for the Georgia portion of Chattanooga TN-GA-AL Area as meeting the requirements of sections 175A and 107(d)(3)(E) of the CAA. The detailed rationale for EPA's findings and actions is set forth in the November 12, 2014, proposed rulemaking. See 79 FR 67120.

IV. What are the effects of these actions?

Approval of the redesignation request changes the legal designation of Catoosa and Walker Counties from nonattainment to attainment for the 1997 Annual PM2.5 NAAQS. EPA is modifying the regulatory table in 40 CFR 81.311 to reflect a designation of attainment for these counties. EPA is also approving, as a revision to the Georgia SIP, the State's plan for maintaining the 1997 Annual PM2.5 NAAQS in the Chattanooga TN-GA-AL Area. The maintenance plan includes contingency measures to remedy possible future violations of the 1997 Annual PM2.5 NAAQS and establishes 2025 MVEBs for direct PM2.5 and NOX for the Georgia portion of Chattanooga TN-GA-AL Area. Within 24 months of the effective date of EPA's approval of the maintenance plan, the transportation partners will need to demonstrate conformity to the new PM2.5 and NOX MVEBs pursuant to 40 CFR 93.104(e).

V. Final Action

EPA is taking final action to approve the redesignation and change the legal designation of Catoosa and Walker Counties in Georgia from nonattainment to attainment for the 1997 Annual PM2.5 NAAQS. Through this action, EPA is also approving into the Georgia SIP the 1997 Annual PM2.5 maintenance plan for the Georgia portion of the Chattanooga TN-GA-AL Area, which includes the new 2025 PM2.5 and NOX MVEBs of 44.2 tons per year (tpy) and 1,386.5 tpy, respectively, for this Area. EPA's approval of the redesignation request is based on the Agency's determination that the Georgia portion of the Chattanooga TN-GA-AL Area meets the criteria for redesignation set forth in CAA, including EPA's determination that the Chattanooga TN-GA-AL Area has attained and continues to attain the 1997 Annual PM2.5 NAAQS and that attainment can be maintained through 2025. Finally, EPA is finding the 2025 PM2.5 and NOX MVEBs contained in Georgia's September 14, 2012, SIP revision adequate for the purposes of transportation conformity. Within 24 months from this final rule, the transportation partners will need to demonstrate conformity to the new NOX and VOC MVEBs pursuant to 40 CFR 93.104(e).

In accordance with 5 U.S.C. 553(d), EPA finds that there is good cause for this action to become effective immediately upon publication. This is because a delayed effective date is unnecessary due to the nature of a redesignation to attainment, which relieves the Area from certain CAA requirements that would otherwise apply to it. The immediate effective date for this action is authorized under both 5 U.S.C. 553(d)(1), which provides that rulemaking actions may become effective less than 30 days after publication if the rule grants or recognizes an exemption or relieves a restriction, and section 553(d)(3), which allows an effective date less than 30 days after publication as otherwise provided by the agency for good cause found and published with the rule. The purpose of the 30-day waiting period prescribed in section 553(d) is to give affected parties a reasonable time to adjust their behavior and prepare before the final rule takes effect. Today's rule, however, does not create any new regulatory requirements such that affected parties would need time to prepare before the rule takes effect. Rather, today's rule relieves the State of various requirements for the Georgia portion of the Chattanooga TN-GA-AL Area. For these reasons, EPA finds good cause under 5 U.S.C. 553(d)(3) for this action to become effective on the date of publication of this action.

VI. Statutory and Executive Order Reviews

Under the CAA, redesignation of an area to attainment and the accompanying approval of the maintenance plan under CAA section 107(d)(3)(E) are actions that affect the status of geographical area and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For these reasons, these actions:

• Are not a “significant regulatory action” subject to review by the Office of Management and Budget under Executive Orders 12866 (58 FR 51735, October 4, 1993) and 13563 (76 FR 3821, January 21, 2011);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not significant regulatory action subject to Executive Order 13211 (66 FR 28355, May 22, 2001);

• Are not subject to requirements of Section 12(d) of the National Technology Transfer and Advancement Act of 1995 (15 U.S.C. 272 note) because application of those requirements would be inconsistent with the CAA; and,

• Do not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 17, 2015. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects

40 CFR Part 52

Environmental protection, Air pollution control, Incorporation by reference, Intergovernmental relations, Reporting and recordkeeping requirements, and Particulate matter.

40 CFR Part 81

Environmental protection, Air pollution control, National parks.

Dated: December 9, 2014.
Heather McTeer Toney,
Regional Administrator, Region 4.

Therefore, 40 CFR parts 52 and 81 are amended as follows:

PART 52-APPROVAL AND PROMULGATION OF PLANS

1. The authority citation for part 52 continues to read as follows:

Authority: 42 U.S.C. 7401 et seq.

Subpart L—Georgia

2. In § 52.570, the table in paragraph (e) is amended by adding the entry “1997 Annual PM2.5 Maintenance Plan for the Georgia portion of the Chattanooga TN-GA-AL Area” at the end of the table to read as follows:

§ 52.570 Identification of plan.

* * * * *

(e) * * *

EPA-Approved Georgia Non-Regulatory Provisions
Name of non-regulatory SIP provision | Applicable geographic or nonattainment area | State submittal date/effective date | EPA approval date | Explanation
* * * * * * *
1997 Annual PM2.5 Maintenance Plan for the Georgia portion of the Chattanooga TN-GA-AL Area | Catoosa and Walker Counties | 9/14/12 | 12/19/14 [Insert Federal Register citation] |

PART 81—DESIGNATION OF AREAS FOR AIR QUALITY PLANNING PURPOSES

3. The authority citation for part 81 continues to read as follows:

Authority: 42 U.S.C. 7401 et seq.

4. In § 81.311, the table entitled “Georgia—1997 Annual PM2.5 NAAQS” is amended by revising the entry for “Chattanooga, TN-GA-AL:” to read as follows:

§ 81.311 Georgia.

* * * * *

Georgia—1997 Annual PM2.5 NAAQS
[Primary and Secondary]
Designated area | Designation ᵃ: Date ¹ | Designation ᵃ: Type | Classification: Date ² | Classification: Type
* * * * * * *
Chattanooga, TN-GA-AL: |  |  |  |
Catoosa County | 12/19/14 | Attainment |  |
Walker County | 12/19/14 | Attainment |  |
* * * * * * *
ᵃ Includes Indian Country located in each county or area, except as otherwise specified.
¹ This date is 90 days after January 5, 2005, unless otherwise noted.
² This date is July 2, 2014, unless otherwise noted.

* * * * *

[FR Doc. 2014-29702 Filed 12-18-14; 8:45 am]

BILLING CODE 6560-50-P